DEPARTMENT OF HEALTH AND HUMAN SERVICES

Health Resources and Services Administration

Agency Information Collection Activities: Submission to OMB for Review and Approval; Public Comment Request; Information Collection Request Title: Membership Forms for Organ Procurement and Transplantation Network OMB No. 0915-0184-Revision

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this notice has closed.

DATES: Comments on this ICR should be received no later than July 27, 2020.

ADDRESSES: Written comments and recommendations for the proposed information collection should be sent within 30 days of publication of this notice to www.reginfo.gov/public/do/PRAMain. Find this particular information collection by selecting “Currently under—Open for Public Comments” or by using the search function.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Membership Forms for Organ Procurement and Transplantation Network OMB No. 0915-0184-Revision.

Abstract: This is a request for OMB approval for revisions of the application documents used to collect information for determining if the interested party is compliant with membership requirements contained in the final rule Governing the Operation of the Organ Procurement and Transplantation Network (OPTN), (42 CFR part 121) “the OPTN final rule.”

A 60-day notice published in the Federal Register on February 13, 2020, vol. 85, No. 30; pp. 8300-02. There were no public comments.

Need and Proposed Use of the Information: Membership in the OPTN is determined by submission of application materials to the OPTN (not to HRSA) demonstrating that the applicant meets all required criteria for membership and will agree to comply with all applicable provisions of the National Organ Transplant Act, as amended, 42 U.S.C. 273, et seq., the OPTN final rule, OPTN Policies, and OPTN Bylaws. Section 1138 of the Social Security Act, as amended, 42 U.S.C. 1320b-8 (section 1138) requires that hospitals in which transplants are performed by members of, and abide by, the rules and requirements of the OPTN (that have been approved by the Secretary of HHS) as a condition of participation in Medicare and Medicaid.

Proposed Revisions to OPTN Membership Applications: Changes to the forms are proposed to make application requirements more clear and organized, and thus less cumbersome for applicants to complete. Proposed revisions include changes to wording to make questions more consistent with the language of the OPTN Bylaws (Bylaws). In addition, the applications have been revised so that the sequence of questions is parallel to that of the Bylaws. Using the Bylaws as a baseline, the revamped applications have been constructed in parallel order of the Bylaws so that an applicant can have the application and Bylaws side-by-side for easy reference. Additional proposed changes to the application include:

• A few major changes were made to the application order of documentation and attachments. The embedded transplant logs were revised in the form of a `universal' surgeon and physician log that will be provided as a separate attachment to the application. This new log will provide applicants with all OPTN Bylaws requirements. We hope the added technology utilized in the log will help applicants complete the log with limited errors.

• Also within the applications, “checkboxes”—fillable tables that were not checkboxes at all—were removed, and working checkboxes were inserted. The “narrative” section was replaced by checkbox attestations, which will serve the same purpose—understanding relevant and recent surgeon and physician applicant experience.

• The previous membership applications had several places for the applicants to sign. The new application requests only one signature from each member applicant involved.

• Additional changes to the application process include streamlining previous application attachments for key personnel and living donor components into one form for the respective organ application.

• Pediatric Bylaw Requirements, where applicable, were also given their sections within the organ applications. Conversely, the Certificate of Assessment (formerly known as Certificate of Investigation) and the Primary Coverage Plan Checklist was pulled out of the previous organ-specific applications and given their own, separate attachment. These changes will allow OPTN application reviewers to give these application components to applicants in as few attachments as possible. These changes will also allow the United Network for Organ Sharing Membership Team to give these important application components to applicants in as few attachments as possible, but are inclusive of all possible changes within a program.

• Further changes have been made to the Vascularized Composite Allograft (VCA) Transplant program applications, which were previously submitted as separate applications for OMB approval based on body part transplanted. These forms have been revised into one single application with sections for each VCA organ type.

• Personnel changes for Organ Procurement Organizations (OPOs) and Histocompatibility Laboratories have also been consolidated into organization applications. OPO and Lab applicants will be able to use one respective application for new and/or personnel changes.

Given these changes, the overall burden has decreased significantly from an estimated 7,020 total burden hours to 4,755 hours in this current proposed revision package, although some forms have been combined into one more comprehensive form resulting in increased burden hours for a particular form.

Likely Respondents: Parties seeking initial OPTN membership approval and then maintenance of existing OPTN approval. Applicants include the following: Hospitals seeking to perform organ transplants, non-profit organizations seeking to become an organ procurement organization, and medical laboratories seeking to become an OPTN-approved histocompatibility laboratory. In addition, there are other OPTN membership categories for organizations and individuals who want to participate in the organ transplant system, and they are also required to fill out an appropriate application.

Burden Statement: Burden, in this context, means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information, and to transmit or otherwise disclose the information. The total annual burden hours estimated for this ICR are summarized in the table below.

Total Estimated Annualized Burden—Hours
Form name | Number of respondents | Number of responses per respondent | Total responses | Average burden per response (in hours) | Total burden hours
OPTN Membership Application for Transplant Hospitals | 2 | 1 | 2 | 3 | 6
OPTN Certificate of Assessment and Program Coverage Plan Membership Application | 2 | 1 | 2 | 3 | 6
OPTN Membership Application for Kidney Transplant Programs | 189 | 2 | 378 | 3 | 1,134
OPTN Membership Application for Liver Transplant Programs | 110 | 2 | 220 | 3 | 660
OPTN Membership Application for Pancreas Transplant Programs | 120 | 2 | 240 | 3 | 720
OPTN Membership Application for Heart Transplant Programs | 142 | 2 | 284 | 3 | 852
OPTN Membership Application for Lung Transplant Programs | 60 | 2 | 120 | 3 | 360
OPTN Membership Application for Islet Transplant Programs | 4 | 2 | 8 | 2 | 16
OPTN Membership Application for Vascularized Composite Allograft (VCA) Transplant Programs | 53 | 2 | 106 | 2 | 212
OPTN Membership Application for Intestine Transplant Programs | 90 | 2 | 180 | 3 | 540
OPTN Membership Application for Organ Procurement Organizations (OPOs) | 10 | 1 | 10 | 3 | 30
OPTN Membership Application for Histocompatibility Laboratories | 27 | 2 | 54 | 3 | 162
OPTN Representative Form | 20 | 2 | 40 | 1 | 40
OPTN Medical/Scientific Membership Application | 7 | 1 | 7 | 1 | 7
OPTN Public Organization Membership Application | 4 | 1 | 4 | 1 | 4
OPTN Business Membership Application | 2 | 1 | 2 | 1 | 2
OPTN Individual Membership Application | 4 | 1 | 4 | 1 | 4
OPTN Membership Application Surgeon or Physician Log * |  |  |  |  |
Total = 18 forms | 846 |  | 1,661 |  | 4,755
* The OPTN Membership Application Surgeon or Physician Log accompanies every individual organ application. The burden to complete is built into the organ application data.

Maria G. Button,
Director, Executive Secretariat.

[FR Doc. 2020-13793 Filed 6-25-20; 8:45 am]

BILLING CODE 4165-15-P